DEPARTMENT OF TRANSPORTATION

Federal Highway Administration

Environmental Impact Statement: Riverside County, CA

AGENCY: Federal Highway Administration (FHWA), DOT.

ACTION: Notice of intent to prepare an environmental impact statement.

SUMMARY: The FHWA is issuing this notice to advise the public that an Environmental Impact Statement will be prepared for a proposed highway project in Riverside County, California.

FOR FURTHER INFORMATION CONTACT: Mr. Rick Cushing, Environmental Planning Engineer, Federal Highway Administration, 555 Zang Street, Rm 259, Lakewood, Colorado 80228, telephone 303-716-2138.

SUPPLEMENTARY INFORMATION: The FHWA, in cooperation with San Bernardino National Forest, the California Department of Transportation, and Riverside County, will prepare an Environmental Impact Statement (EIS) on a proposal to improve California Forest Highway (FH) 224, Bautista Canyon Road. The portion that is proposed for improvement begins 10.3 miles southeast of Valle Vista and extends 8.2 miles to a point 3.2 miles northwest of State Highway 371 west of Anza. The FHWA is the lead agency. Riverside County will assist the FHWA in the preparation of the EIS. Improvement are being considered to provide a safe, all-weather facility for existing and projected traffic demand. Alternatives under consideration include (1) taking no action, (2) the improvement of the existing facility to appropriate County, American Association of State Highway and Transportation Officials (AASHTO), or other acceptable design criteria, and (3) other alternatives that may be developed during the environmental process.

Letters describing the proposed action and soliciting comments will be sent to appropriate Federal, State, and local agencies, and to private organizations and citizens. Public scoping meetings will be held on January 30, 2001 at 7 p.m. in Anza and on January 31, 2001 at 7 p.m. to Valle Vista. A public hearing will also be held in the project area. The draft EIS will be available for public and agency review and comment prior to the public hearing. Information on the time and place of public meetings and hearings will be provided in the local news media and by letter to individuals and agencies that have expressed interest in the proposal.

To ensure that the full range of issues and alternatives related to the proposed action are addressed and all significant issues identified, comments and suggestions are invited from all interested parties. Comments and questions concerning the proposed action should be directed to the FHWA at the address provided above.

(Catalog of Federal Domestic Assistance Program Number 20.205, Highway Research, Planning and Construction. The regulations implementing Executive Order 12372 regarding intergovernmental consultation on Federal programs and activities apply to this program)

Issued on: January 4, 2001.
Larry C. Smith,
Division Engineer, FHWA Denver, Colorado.

[FR Doc. 01-1006 Filed 1-11-01; 8:45 am]

BILLING CODE 4910-22-M